DEPARTMENT OF DEFENSE

Office of the Secretary

[Transmittal Nos. 15-31]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 15-31 with attached transmittal, policy justification, and Sensitivity of Technology.

Dated: May 14, 2015.
Aaron Siegel,
Alternate OSD Federal Register Liaison Officer, Department of Defense.

Transmittal No. 15-31

Notice of Proposed Issuance of Letter of Offer Pursuant to Section 36(b)(1) of the Arms Export Control Act, as amended

(i) Prospective Purchaser: Government of Norway

(ii) Total Estimated Value:

Major Defense Equipment * | $320 million
Other | $ 25 million
TOTAL | $345 million

(iii) Description and Quantity or Quantities of Articles or Services under Consideration for Purchase: Up to 200 AIM-9X Block II Sidewinder Tactical Missiles, 2 AIM-9X Special Air Training Missiles (NATMs), 40 CATM-9X Block II Captive Air Training Missiles (CATMs), 10 AIM-9X Block II Tactical Guidance Units, and 20 AIM-9X Block II CATM Guidance Units, containers, support and test equipment, spare and repair parts, personnel training and training equipment, publications and technical documentation, U.S. Government and contractor logistics and technical support services, and other related elements of logistics and program support.

(iv) Military Department: Navy (AHV)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: 12 May 15

* as defined in Section 47(6) of the Arms Export Control Act.

POLICY JUSTIFICATION

Norway AIM-9X Block II Sidewinder Missiles

The Government of Norway has requested a possible sale of up to 200 AIM-9X Block II Sidewinder Tactical Missiles, 2 AIM-9X Special Air Training Missiles (NATMs), 40 CATM-9X Block II Captive Air Training Missiles (CATMs), 10 AIM-9X Block II Tactical Guidance Units, and 20 AIM-9X Block II CATM Guidance Units, containers, support and test equipment, spare and repair parts, personnel training and training equipment, publications and technical documentation, U.S. Government and contractor logistics and technical support services, and other related elements of logistics and program support. The estimated cost is $345 million.

This proposed sale will contribute to the foreign policy and national security of the United States by helping to improve the security of a NATO ally which has been, and continues to be, and important force for political stability throughout the world.

Norway requires these capabilities for mutual defense, regional security, force modernization, and U.S. and NATO interoperability. This sale will enhance the Royal Norwegian Air Force's ability to defend Norway against future threats and contribute to current and future NATO operations. Although this is a new capability, Norway will have no difficulty absorbing these missiles into its armed forces.

The proposed sale of this equipment and support will not alter the basic military balance in the region.

The principal contractor will be Raytheon Missile Systems Company in Tucson, Arizona. There are no known offset agreements proposed in connection with this potential sale.

Implementation of this proposed sale may require the assignment of additional U.S. Government or contractor representatives to Government of Norway.

There will be no adverse impact on U.S. defense readiness as a result of this proposed sale.

Transmittal No. 15-31

Notice of Proposed Issuance of Letter of Offer Pursuant to Section 36(b)(1) of the Arms Export Control Act

Annex

Item No. vii

(vii) Sensitivity of Technology:

1. The AIM-9X (Block II) Sidewinder Missile represents a substantial increase in missile acquisition and kinematics performance over the AIM-9M and replaces the AIM-9X (Block I) Missile configuration. The missile includes a high off-boresight seeker, enhanced countermeasure rejection capability, low drag/high angle of attack airframe, and the ability to integrate the Helmet Mounted Cueing System. The software algorithms are the most sensitive portion of the AIM-9X missile. A Software Improvement Program (SIP) provides for Software updates. No software source code or algorithms will be released. The missile is classified as Confidential.

2. The AIM-9X (Block II) will result in the transfer of sensitive technology and information. The equipment, hardware, and documentation are classified Confidential. The software and operational performance are classified Secret. The seeker/guidance control section and the target detector are Confidential and contain sensitive state-of-the-art technology. Manuals and technical documentation that are necessary or support operational use and organizational management are classified up to Secret. Performance and operating logic of the counter-countermeasures circuits are classified Secret. The hardware, software, and data identified are classified to protect vulnerabilities, design and performance parameters, and similar critical information.

3. If a technologically advanced adversary were to obtain knowledge of the specific hardware and software elements, the information could be used to develop countermeasures that might reduce weapon system effectiveness or be used in the development of a system with similar advanced capabilities.

4. A determination has been made that the recipient country can provide substantially the same degree of protection for the sensitive technology being released as the U.S. Government. This sale is necessary in furtherance of the U.S. foreign policy and national security objectives outlined in the Policy Justification.

5. All defense articles and services listed in this transmittal have been authorized for release and export to Norway.

[FR Doc. 2015-12138 Filed 5-19-15; 8:45 am]

BILLING CODE 5001-06-P